DEPARTMENT OF VETERANS AFFAIRS

Advisory Committee on Homeless Veterans; Cancellation of Notice of Meeting

The Department of Veterans Affairs (VA) gives notice under Public Law 92-463 (Federal Advisory Committee Act) that the previously announced meeting for the Advisory Committee on Homeless Veterans scheduled for February 16-19, 2005, in San Juan, Puerto Rico, has been cancelled.

If there are any questions on the cancellation notice or comments on issues affecting homeless veterans, please contact Mr. Peter Dougherty, Designated Federal Officer, at (202) 273-5764. Written comments can be sent to the Committee at the following address: Advisory Committee on Homeless Veterans, Homeless Veterans Programs Office (075D), U.S. Department of Veterans Affairs, 810 Vermont Avenue, NW., Washington, DC 20420.

Dated: January 19, 2005.
By direction of the Secretary.
E. Philip Riggin,
Committee Management Officer.

[FR Doc. 05-1542 Filed 1-26-05; 8:45 am]

BILLING CODE 8320-01-M